DEPARTMENT OF THE INTERIOR

Fish and Wildlife Service

Receipt of Application for Endangered Species Permit

AGENCY: Fish and Wildlife Service, Interior.

ACTION: Notice of receipt of application for endangered species permit.

SUMMARY: The following applicants have applied for permits to conduct certain activities with endangered species. This notice is provided pursuant to Section 10(c) of the Endangered Species Act of 1973, as amended (16 U.S.C. 1531 et seq.).

DATES: Written data or comments on these applications must be received, at the address given below, by March 8, 2002.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: If you wish to comment, you may submit comments by any one of several methods. You may mail comments to the Service's Regional Office (see ADDRESSES). You may also comment via the Internet to “victoria_davis@fws.gov”. Please submit comments over the Internet as an ASCII file avoiding the use of special characters and any form of encryption. Please also include your name and return address in your Internet message. If you do not receive a confirmation from the Service that we have received your Internet message, contact us directly at either telephone number listed above (see FURTHER INFORMATION). Finally, you may hand deliver comments to the Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Jerry L. Farris, Arkansas State University, State University, Arkansas TE051013-0.

The applicant requests authorization to take (remove, tag, collect shells, remove glochidia, exam, measure, transport, hold in raceways and/or recirculating trough units)the Ouachita-rock pocketbook, (Arkansia wheeleri) for the following purposes: To characterize the population size, sex ratio, age structure, and associated fish and mussel species; to determine gravidity and glochidial release periods for currently reported populations; and to determine suitable host fish that occur within the Little River and the Kiamichi River. The activities will occur in the Little Red River, Sevier and Little River counties, Arkansas and the Kiamichi River in Le Flore and Pushmataha Counties, Oklahoma.

Applicant: National Park Service, Big Cypress National Preserve, Superintendent John J. Donahue, Ochopee, Florida, TE051015-0.

The applicant requests authorization to take (capture, tranquilize, hold temporarily, transport, radio collar, provide medical treatment for injury or illness, release, and euthanize) the Florida panther (Puma concolor coryi) for the following purposes: To maintain a healthy panther population, to assess the habitat potential to support panthers, to monitor the effects of the genetic restoration project, and to make sound management decisions regarding the increasing recreational demands on the resources as well as the proposed restoration projects affecting the Big Cypress National Preserve. The proposed activities will take place on the Big Cypress National Preserve, Collier, Dade, and Monroe Counties, Florida.

Applicant: Peter Frederick, University of Florida, Gainesville, Florida, TE051429-0.

The applicant requests authorization to take (monitor, capture, collect blood, radio and satellite tag, and perform necropsies when necessary) 120 young wood storks (Mycteria americana). The purposes of the study are to measure the survival rates of young storks for up to 3 years of age, develop a demographic model, describe movement patterns and habitats used by storks, and develop an interactive educational Web site for K-12 use. The capture and handling of young birds will occur in Dade, Broward, Collier, Monroe, Lee and Palm Beach counties, Florida.

Applicant: Florida Fish and Wildlife Conservation Commission, Frank Montalbano, Tallahassee, Florida, TE051553-0.

The applicant requests authorization to take (capture, tranquilize, hold temporarily, transport, radio collar, provide medical treatment for injury or illness, release, and euthanize) the Florida panther (Puma concolor coryi) for the following purposes: To maintain a healthy panther population, to assess the habitat potential to support panthers, to monitor the effects of the genetic restoration project, and to make sound management decisions. The activities will take place throughout the state of Florida.

Applicant: USDA Forest Service, Bankhead Ranger District, Tom Counts, Double Springs, Alabama, TE052205-0.

The applicant requests authorization to take (survey, capture, identify, and release) gray bat (Myotis grisescens) and Indiana bat (Myotis sodalis) to determine if maternity colonies are present in caves and to determine more accurate dates of entry and exit at hibernacula. The proposed activities will take place on the Bankhead Ranger District in Winston, Lawrence, and Franklin Counties, Alabama.

Applicant: Dowling Environmental Services, Inc., Hugh Dowling, Mobile, Alabama, TE052208-0.

The applicant requests authorization to take (capture and release) the Alabama beach mouse (Peromyscus polionotus ammobates) to conduct surveys to determine the presence of beach mice for the future development of a Habitat Conservation Plan. The activities will take place in Baldwin County, Alabama.

Dated: January 24, 2002.
Sam D. Hamilton,
Regional Director.

[FR Doc. 02-2808 Filed 2-5-02; 8:45 am]

BILLING CODE 4310-55-P